DEPARTMENT OF THE INTERIOR

Bureau of Land Management

[AK-932-5420-EU-L024; AA-085086, AA-085087, AA-085088, & AA-085089]

Notice of Applications for Recordable Disclaimer of Interest for Lands Underlying Eight Rivers and Nine Lakes in Alaska

AGENCY: Bureau of Land Management, Interior.

ACTION: Notice.

SUMMARY: The State of Alaska has submitted four applications for recordable disclaimer of interest pursuant to section 315 of the Federal Land Policy and Management Act and the regulations contained in 43 CFR part 1864. A recordable disclaimer of interest, if issued, will confirm the United States has no valid interest in the subject lands. This notice is intended to notify the public of the pending applications and the State's grounds supporting it.

DATES: Comments on these pending applications should be submitted by December 15, 2003.

ADDRESSES: Comments should be sent to the Chief, Branch of Lands and Realty, BLM Alaska State Office, 222 West 7th Avenue, No. 13, Anchorage, Alaska 99513-7599.

FOR FURTHER INFORMATION CONTACT: Mike Haskins, Branch of Lands and Realty at 907-271-3351 or visit the recordable disclaimer of interest Web site at http://www.ak.blm.gov/ak930/realty/.

SUPPLEMENTARY INFORMATION: On July 18, 2003, the State of Alaska filed applications for recordable disclaimer of interest for lands underlying eight rivers and nine lakes, aggregating 400 miles in length. The State asserts the rivers and lakes listed below are navigable and under the Equal Footing Doctrine and Submerged Lands Act of 1953, ownership of these submerged lands automatically passed from the United States to the State at the time of statehood in 1959.

The applications are for lands underlying the Tazlina River and Tazlina Lake, Klutina River and Klutina Lake located in the Copper River region, Kvichak River and Lake Iliamna located in Southwest Alaska, and Wood River and the lake and river system, including Aleknagik, Nerka, Little Togiak, Beverley, Kulik, and Mikchalk Lakes, and interconnecting rivers including Wood, Agulowak, Agulukpak, Wind, and Peace Rivers. The Wood River and the lake and river system are located in the Wood-Tikchik State Park in Southwest Alaska. The State did not identify any known adverse claimant or occupant of the affected lands.

A final decision on the merits of the applications will not be made until December 15, 2003. During the 90-day period, interested parties may submit comments on the State's applications, BLM Serial Numbers AA-085086 (Tazlina River and Tazlina Lake), AA-085087 (Klutina River and Klutina Lake), AA-085088 (Kvichak River and Lake Iliamna), and AA-085089 (Wood River and Lakes System).

Comments, including names and street addresses of commenters, will be available for public review at the Alaska State Office (see address above), during regular business hours 7:30 a.m. to 4:30 p.m., Monday through Friday, except holidays. Individual respondents may request confidentiality. If you wish to hold your name or address from public review or from disclosure under the Freedom of Information Act, you must state this prominently at the beginning of your comments. Such requests will be honored to the extent allowed by law. All submissions from organizations or business will be made available for public inspection in their entirety.

Dated: August 18, 2003.
Mike Haskins,
Chief, Branch of Lands and Realty.

[FR Doc. 03-23452 Filed 9-12-03; 8:45 am]

BILLING CODE 4310-JA-P